DEPARTMENT OF STATE

[Public Notice: 11256]

Foreign Affairs Policy Board Meeting Notice Closed Meeting

In accordance with the Federal Advisory Committee Act, 5 U.S.C. App., the Department of State announces a meeting of the Foreign Affairs Policy Board to take place on December 7, 2020, at the Department of State, Washington, DC.

The Foreign Affairs Policy Board reviews and assesses: (1) Global threats and opportunities; (2) trends that implicate core national security interests; (3) technology tools needed to advance the State Department's mission; and (4) priorities and strategic frameworks for U.S. foreign policy. Pursuant to section 10(d) of the Federal Advisory Committee Act, 5 U.S.C. App § 10(d), and 5 U.S.C. 552b(c)(1), it has been determined that this meeting will be closed to the public as the Board will be reviewing and discussing matters properly classified in accordance with Executive Order 13526.

For more information, contact Duncan Walker at (202) 647-2236.

Duncan H. Walker,
Designated Federal Officer, Office of Policy Planning, Department of State.

[FR Doc. 2020-25223 Filed 11-13-20; 8:45 am]

BILLING CODE 4710-10-P